DEPARTMENT OF AGRICULTURE

Farm Service Agency

Information Collection: Volunteer Programs

AGENCY: Farm Service Agency, USDA.

ACTION: Notice; request for comments.

SUMMARY: In accordance with the Paperwork Reduction Act of 1995, the Farm Service Agency (FSA) is seeking comments from all interested individuals and organizations on an extension of a currently approved information collection associated with the Standards for Approval of Volunteer Programs.

DATES: We will consider comment received by April 7, 2008.

ADDRESSES: We invite you to submit comments on this notice. In your comment, include volume, date and page number of this issue of the Federal Register. You may submit comments by any of the following methods:

E-mail: Send comments to: Mondina.Jolley@wdc.usdc.gov.

Fax: (202) 401-0515.

Mail: Ms. C. Mondina Jolley, Student Employment Program Manager, USDA, FSA, Human Resources Division, Domestic Operations Branch, 1400 Independence Ave., SW., Washington, DC 20250-0596.

Comments also should be sent to the Desk Officer for Agriculture, Office of Information and Regulatory Affairs, Office of Management and Budget, Washington, DC 20503.

FOR FURTHER INFORMATION CONTACT: Ms. C. Mondina Jolley, Student Employment Program Manager, phone: (202) 401-0515.

SUPPLEMENTARY INFORMATION: Title: Volunteer Programs.

OMB Control Number: 0560-0232.

Expiration Date for Approval: August 31, 2008.

Type of Request: Extension of a Currently Approved Information Collection.

Abstract: The Volunteer Program Personnel Management Notice is issued to allow the FSA to enter into volunteer agreements with students, individuals, groups or organizations who sponsor individual's services without compensation, and who perform those services in furtherance of the programs of the Agency. This information collection allows FSA to effectively recruit, train, and accept volunteers to carry out programs supported by the USDA Department.

The type of respondents are mainly students; individuals; and sponsored volunteer program service Agreements. The supporting documents with the forms in this information collection are required to allow the Agency to document the use (as required by the Office of Personnel Management letter dated April 18, 1996, i.e., to inform volunteers of the nature of their appointment with respect to service credit for leave or other employees benefits and record time and attendance) of individuals providing voluntary service but are not Federal employees except for the purpose of Chapter 81 of Title 5, U.S.C. (relating to Worker Compensation Program), and Sections 2671 through 2680 of Title 28 U.S.C. relating to tort claims. The forms are furnished to selected volunteers to secure and record information regarding the agreement and permit the volunteer to submit time and attendance information.

Estimate of Burden: The recording keeping requirements in this clearance are normal business records and, therefore, have no burden. Public reporting burden for this information collection is estimated to average 15 minutes per response. The average travel time, which is included in the total annual burden, is estimated to be 1 hour per respondent.

Estimated Total Number of respondents: 80.

Average time to respond: 25.

Estimated Number of Responses per Respondent: 1.

Total annual burden hours: 30.

Comments are invited on:

(1) Whether the collection of information is necessary for the proper performance of the functions of the Agency, including whether the information will have practical utility;

(2) The accuracy of the Agency's estimate of burden including the validity of the methodology and assumptions used;

(3) Ways to enhance the quality, utility, and clarity of the information to be collected; and

(4) Ways to minimize the burden of the collection of information on those who are to respond, including those who respond through the use of appropriate automated, electronic, or mechanical, collection techniques, or other forms of information technology.

All responses to this notice, including names and addresses when provided, will be a matter of public records. Comments will be summarized and included in the submission for Office of Management and Budget approval.

Signed in Washington, DC on February 1, 2008.
Teresa C. Lasseter,
Administrator, Farm Service Agency.

[FR Doc. E8-2191 Filed 2-6-08; 8:45 am]

BILLING CODE 3410-05-P